ENVIRONMENTAL PROTECTION AGENCY

[EPA-HQ-OW-2023-0268; FRL 10613-02-OW]

Final National Pollutant Discharge Elimination System (NPDES) Pesticide General Permit for Point Source Discharges From the Application of Pesticides; Reissuance

AGENCY: Environmental Protection Agency (EPA).

ACTION: Notice of final permit issuance.

SUMMARY: This notice announces issuance by all 10 Environmental Protection Agency (EPA) Regions of the final 2026 National Pollutant Discharge Elimination System (NPDES) pesticide general permit (PGP)—the 2026 PGP. The 2026 PGP, which has an effective date of October 31, 2026, replaces the existing permit (2021 PGP) that expires on October 30, 2026, and authorizes certain point source discharges from the application of pesticides to waters of the United States in accordance with the terms and conditions described therein. The EPA is issuing this permit for five (5) years in all areas of the country where the EPA is the NPDES permitting authority.

DATES: The permit becomes effective on October 31, 2026, and will expire at 11:59 p.m. on October 30, 2031. In accordance with 40 CFR part 23, this permit shall be considered issued for the purpose of judicial review on December 31, 2024 Under section 509(b) of the Clean Water Act (CWA), judicial review of this general permit can be requested by filing a petition for review in the United States Court of Appeals within 120 days after the permit is considered issued. Under section 509(b) of the CWA, the requirements of this permit may not be challenged later in civil or criminal proceedings to enforce these requirements. In addition, this permit may not be challenged in other agency proceedings. Deadlines for submittal of a Notices of Intent (NOI) to be covered, if required, are provided in Part 1.2.3, Table 1-2 of the 2026 PGP.

FOR FURTHER INFORMATION CONTACT: Contact the appropriate EPA Regional office listed on EPA's NPDES website at https://www.epa.gov/npdes/contact-us-pesticide-permitting, email PGP@epa.gov, or contact Dr. Lauren Mosesso, EPA Headquarters, Office of Water, Office of Wastewater Management (4203M), 1200 Pennsylvania Avenue NW, Washington, DC 20460; telephone number: 202-564-1012; email address: Mosesso.Lauren@epa.gov. Electronic versions of the 2026 PGP and Fact Sheet are also available on EPA's NPDES website at https://www.epa.gov/npdes/pesticide-permitting.

SUPPLEMENTARY INFORMATION:

Table of Contents

I. General Information

A. Does this action apply to me?

B. How can I get copies of this document and other related information?

C. Geographic Coverage

D. Who are the EPA regional contacts for this final permit?

II. Background

III. Summary of the 2026 PGP

A. Summary of 2026 PGP Terms and Requirements

B. 2026 PGP Cost Analysis

IV. Executive Orders 12866 and 13563

V. Executive Order 12898: Federal Actions To Address Environmental Justice in Minority Populations and Low-Income Populations and Executive Order 14096: Revitalizing Our Nation's Commitment to Environmental Justice for All

VI. Executive Order 13175: Consultation and Coordination With Indian Tribal Governments

I. General Information

A. Does this action apply to me?

You may be affected by this action if you apply pesticides, under the use patterns in Part 1.1.1. of the 2026 PGP, that result in a discharge to a water of the United States in one of the geographic areas identified in Appendix C of the 2026 PGP. Potentially affected entities, as categorized in the North American Industry Classification System (NAICS), may include, but are not limited to:

Table 1—Entities Potentially Regulated by the 2026 PGP
Category | NAICS | Examples of potentially affected entities
Agricultural entities—General agricultural interests, farmers/producers, forestry, and irrigation | 111 Crop Production | Producers of crops mainly for food and fiber, including farms, orchards, groves, greenhouses, and nurseries that have irrigation ditches requiring pest control.
| 113110 Timber Tract Operations | The operation of timber tracts for the purpose of selling standing timber.
| 113210 Forest Nurseries Gathering of Forest Products | Growing trees for reforestation and/or gathering forest products, such as gums, barks, balsam needles, rhizomes, fibers, Spanish moss, ginseng, and truffles.
| 221310 Water Supply for Irrigation | Operating irrigation systems.
Pesticide parties (includes pesticide manufacturers, other pesticide users/interests, and consultants) | 325320 Pesticide and Other Agricultural Chemical Manufacturing | Formulation and preparation of agricultural pest control chemicals.
Public health parties (includes mosquito or other vector control districts and commercial applicators that service these) | 923120 Administration of Public Health Programs | Government establishments primarily engaged in the planning, administration, and coordination of public health programs and services, including environmental health activities.
Resource management parties (includes State departments of fish and wildlife, State departments of pesticide regulation, State environmental agencies, and universities) | 924110 Administration of Air and Water Resource and Solid Waste Management Programs | Government establishments primarily engaged in the administration, regulation, and enforcement of air and water resource programs; the administration and regulation of water and air pollution control and prevention programs; the administration and regulation of flood control programs; the administration and regulation of drainage development and water resource consumption programs; and coordination of these activities at intergovernmental levels.
| 924120 Administration of Conservation Programs | Government establishments primarily engaged in the administration, regulation, supervision and control of land use, including recreational areas; conservation and preservation of natural resources; erosion control; geological survey program administration; weather forecasting program administration; and the administration and protection of publicly and privately owned forest lands. Government establishments responsible for planning, management, regulation and conservation of game, fish, and wildlife populations, including wildlife management areas and field stations; and other administrative matters relating to the protection of fish, game, and wildlife are included in this industry.
Utility parties (includes utilities) | 221 Utilities | Provide electric power, natural gas, steam supply, water supply, and sewage removal through a permanent infrastructure of lines, mains, and pipes.

B. How can I get copies of this document and other related information?

Docket. EPA has established a docket for this action under Docket ID No. [EPA-HQ-OW-2023-0268]. Although all documents in the docket are listed in an index, some information is not publicly available, i.e., Confidential Business Information (CBI) or other information whose disclosure is restricted by statute. Publicly available docket materials are available either electronically through https://www.regulations.gov or in hard copy at the EPA Docket Center, WJC West Building, Room 3334, 1301 Constitution Ave. NW, Washington, DC. The Docket Center's hours of operations are 8:30 a.m.-4:30 p.m., Monday-Friday (except Federal Holidays). For further information on the EPA Docket Center services and the current status, see: https://www.epa.gov/dockets.

C. Geographic Coverage

The EPA provides permit coverage for classes of point source discharges of pollutants that occur in areas where the EPA is the NPDES permitting authority which includes Massachusetts, New Hampshire, New Mexico, the District of Columbia, all U.S. territories except the U.S. Virgin Islands, Federal facilities in Delaware, Vermont, Colorado, and Washington, all Indian Country except in Maine, and where applicable, Lands of Exclusive Federal Jurisdiction. The geographic coverage of the 2026 PGP is listed in Appendix C of the permit.

D. Who are the EPA regional contacts for this final permit?

For the list of EPA Regional contacts, visit the EPA's NPDES website at https://www.epa.gov/npdes/contact-us-pesticide-permitting.

II. Background

Section 301(a) of the CWA provides that “the discharge of any pollutant by any person shall be unlawful” unless the discharge is in compliance with certain other sections of the Act. 33 U.S.C. 1311(a). The CWA defines “discharge of a pollutant” as “(A) any addition of any pollutant to navigable waters from any point source and (B) any addition of any pollutant to the waters of the contiguous zone or the ocean from any point source other than a vessel or other floating craft.” 33 U.S.C. 1362(12). A “point source” is any “discernible, confined and discrete conveyance” but does not include “agricultural stormwater discharges and return flows from irrigated agriculture.” 33 U.S.C. 1362(14).

The term “pollutant” includes among other things “garbage . . . chemical wastes, biological materials . . . and industrial, municipal, and agricultural waste discharged into water.” 33 U.S.C. 1362(6).

A person may discharge a pollutant without violating the section 301 prohibition by obtaining authorization to discharge (referred to herein as “coverage”) under a section 402 NPDES permit (33 U.S.C. 1342). Under section 402(a), the EPA may “issue a permit for the discharge of any pollutant, or combination of pollutants, notwithstanding section 1311(a)” upon certain conditions required by the Act.

The EPA issued the first Pesticide General Permit (“2011 PGP”) on October 31, 2011, in response to the United States Sixth Circuit Court of Appeals ruling vacating EPA's 2006 Final Rule on Aquatic Pesticides. National Cotton Council of America. v. EPA, 553 F.3d 927 (6th Cir. 2009). The EPA developed the PGP to control point source discharges of biological pesticides and chemical pesticides that leave a residue into waters of the United States. In 2016 and 2021 respectively, The EPA issued the second PGP (2016 PGP) and third PGP (2021 PGP). After the EPA issued the 2021 PGP in September 2021, a petition for review of the permit was filed in the U.S. Court of Appeals for the Ninth Circuit. Center for Biological Diversity v. EPA and FWS, No. 21-71306 (9th Cir.) The petition filed by the Center for Biological Diversity (CBD) challenged EPA's permit issuance under the CWA, and the EPA and the U.S. Fish and Wildlife Service (FWS) actions with respect to the permit under the Endangered Species Act (ESA). After CBD filed the petition, EPA, FWS, and CBD entered into settlement discussions. A settlement agreement resulted from these discussions, which the parties entered into on July 25, 2023 (Settlement Agreement). The Settlement Agreement does not affect the provisions in the 2021 PGP, but several terms concern what was to be proposed in the 2026 PGP. Information on the Settlement Agreement is available in Docket ID EPA-HQ-OGC-2023-0247-0002.

The EPA is issuing the 2026 PGP to replace the 2021 PGP which expires on October 30, 2026. Like the previously issued PGP, the 2026 PGP provides coverage for certain point source discharges of pollutants to waters of the United States in areas where the EPA is the NPDES permitting authority. The EPA published the draft 2026 PGP and accompanying Fact Sheet in the Federal Register on November 28, 2023 (88 FR 83120), soliciting comments on the draft permit. The EPA also conducted consultation with Indian Tribal Governments. The EPA received 12 written comment letters on the draft permit. The EPA considered all comments received during the comment period in preparing the final permit. The EPA responded to all significant comments in the Response to Comment Document which is available as part of the docket for this permit.

III. Summary of the 2026 PGP

A. Summary of 2026 PGP Terms and Requirements

While the requirements of the 2026 PGP remain largely the same as those in the previously issued PGPs, a summary of updates from the 2021 PGP and from the proposed 2026 PGP are outlined in the 2026 PGP Fact Sheet. The 2026 PGP is structured in the same nine parts as the previously issued PGPs: (1) Coverage under This Permit, (2) Technology-Based Effluent Limitations, (3) Water Quality-Based Effluent Limitations and Other Limitations, (4) Monitoring, (5) Pesticide Discharge Management Plan, (6) Corrective Action, (7) Recordkeeping and Annual Reporting, (8) EPA Contact Information and Mailing Addresses, and (9) Permit Conditions Applicable Within Specific States (including Territories) and Indian Country. Additionally, as with the previously issued PGPs, the 2026 PGP includes nine appendices with additional conditions and guidance for permittees: (A) Definitions, Abbreviations, and Acronyms, (B) Standard Permit Conditions, (C) Areas Covered, (D) Notice of Intent (NOI) form, (E) Notice of Termination (NOT) form, (F) Pesticide Discharge Evaluation Worksheet (PDEW), (G) Annual Reporting Template, (H) Adverse Incident Report Template, and (I) PGP Eligibility Worksheet for Threatened and Endangered Species Protection. A summary of the 2026 PGP's requirements is provided in the 2026 PGP Fact Sheet.

B. 2026 PGP Cost Analysis

The cost analysis accompanying this final permit monetizes and quantifies certain incremental cost impacts of the final permit changes as compared to the 2021 PGP. The EPA analyzed each change in the 2026 PGP considering the previous permit's requirements. The objective of the cost analysis is to show where or to what extent the 2026 PGP requirements impose an incremental increase in administrative and compliance costs (such as sampling and monitoring costs) on Operators in relation to costs that are already accounted for in the 2021 PGP. As a majority of the changes in the final permit are to clarify requirements in previously issued permits, the EPA expects minimal incremental cost impact on entities that will be covered under the 2026 PGP. For further discussion, see Appendix D of the fact sheet.

IV. Executive Orders 12866 and 13563

The 2026 PGP is not a significant regulatory action and was therefore not submitted to the Office of Management and Budget (OMB) for review.

V. Executive Order 12898: Federal Actions To Address Environmental Justice in Minority Populations and Low-Income Populations and Executive Order 14096: Revitalizing Our Nation's Commitment to Environmental Justice for All

The EPA believes that it is not practicable to assess whether the human health or environmental conditions that exist prior to this action result in disproportionate and adverse effects on communities with environmental justice concerns. As part of the general permit development process, the EPA reviews available information to evaluate whether issuance of a permit could affect overburdened communities. The EPA has determined that a more in-depth environmental justice analysis is not feasible for this permit reissuance due to the limited amount of and format of information the EPA currently has available. The information supporting this Executive Order review is contained in Appendix E of the fact sheet.

VI. Executive Order 13175: Consultation and Coordination With Indian Tribal Governments

This action does not have tribal implications as specified in Executive Order 13175. It will neither impose substantial direct compliance costs on federally recognized Tribal governments, nor preempt Tribal law. The EPA directly implements the NPDES Program, including the 2026 PGP, in Indian Country; therefore, consistent with the EPA Policy on Consultation and Coordination with Indian Tribes, the EPA consulted with Tribal officials early in the process to provide Tribes an opportunity to have meaningful and timely input into the renewal of the PGP. To gain an understanding of, and where appropriate, to address Tribal implications of the draft 2026 PGP, the EPA conducted the following activities:

• August 22, 2023—the EPA emailed notification letters to tribal leaders initiating consultation and coordination on the renewal of the PGP. The initiation letter was also posted on EPA's Tribal Consultation Opportunities Tracking System (TCOTS) at https://tcots.epa.gov/.

• September 19 and 21, 2023—the EPA held two informational webinars open to all tribal representatives and reserved the last part of each webinar for official consultation comments. Eighteen Tribal representatives participated in the webinars. No official comments were received during the webinars. The presentation was posted on the Tribal portal website at https://tcots.epa.gov.

The EPA received one comment from Tribes and Tribal organizations during the consultation and coordination period. Records of the Tribal informational webinars and a consultation summary are included in the docket for this proposed action (Docket ID No. EPA-HQ-OW-2023-0268). The EPA has considered the comment received in the proposal. The Agency specifically solicited additional comment on this proposed permit during the public comment period. The EPA also notes that as part of the finalization of this permit, the Agency completed CWA section 401 certification procedures with all applicable authorized Tribes where this permit will apply (see Part 9 and Appendix C of the PGP).

Authority: Clean Water Act, 33 U.S.C. 1251 et seq.

David Cash,
Regional Administrator, EPA Region 1.
Javier Laureano Perez,
Director, Water Division, EPA Region 2.
Carmen Guerrero Perez,
Director, Caribbean Environmental Protection Division, EPA Region 2.
Michelle Price-Fay,
Director, Water Division, EPA Region 3.
Kathlene Butler,
Director, Water Division, EPA Region 4.
Tera Fong,
Director, Water Division, EPA Region 5.
Troy Hill,
Director, Water Division, EPA Region 6.
Jeffery Robichaud,
Director, Water Division, EPA Region 7.
Stephanie DeJong,
Manager, Clean Water Branch, EPA Region 8.
Tomas Torres,
Director, Water Division, EPA Region 9.
Mathew Martinson,
Director, Water Division, EPA Region 10.

[FR Doc. 2024-29657 Filed 12-16-24; 8:45 am]

BILLING CODE 6560-50-P